ENVIRONMENTAL PROTECTION AGENCY

[EPA-HQ-OPP-2013-0026; FRL-9398-6]

Pesticide Products; Registration Applications for New Active Ingredients

AGENCY: Environmental Protection Agency (EPA).

ACTION: Notice.

SUMMARY: EPA has received several applications to register pesticide products containing active ingredients not included in any currently registered pesticide products. Pursuant to the Federal Insecticide, Fungicide, and Rodenticide Act (FIFRA), EPA is hereby providing notice of receipt and opportunity to comment on these applications.

DATES: Comments must be received on or before November 29, 2013.

ADDRESSES: Submit your comments, identified by docket identification (ID) number and the EPA File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Susan Lewis, Antimicrobials Division (AD) (7510P), telephone number: (703) 305-7090, email address: ADFRNotices@epa.gov; Robert McNally, Biopesticides and Pollution Prevention Division (BPPD) (7511P), telephone number: (703) 305-7090, email address: BPPDFRNotices@epa.gov; or Lois Rossi, Registration Division (RD) (7505P), telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received several applications to register pesticide products containing active ingredients not included in any currently registered pesticide products. Pursuant to the provisions of FIFRA section 3(c)(4), EPA is hereby providing notice of receipt and opportunity to comment on these applications. Notice of receipt of these applications does not imply a decision by the Agency on these applications. For actions being evaluated under the Agency's public participation process for registration actions, there will be an additional opportunity for a 30-day public comment period on the proposed decision. Please see the Agency's public participation Web site for additional information on this process (http://www.epa.gov/pesticides/regulating/registration-public-involvement.html). EPA received the following applications to register pesticide products containing an active ingredient not included in any currently registered products:

1. EPA File Symbols: 1021-EANA, 1021-EANE, 1021-EANG, 1021-EANL, 1021-EANR, 1021-EANT, 1021-EANU, 10308-GA, and 10308-GL. Docket ID Number: EPA-HQ-OPP-2013-0478. Applicant: I2L Research USA Inc., 1330 Dillon Heights Ave., Baltimore, MD 21228-1199, on behalf of Sumitomo Chemical Company, LTD., 27-1, Shinkawa 2-Chome, Chuo-Ku, Tokyo 104-8260, Japan. Active ingredient: Momfluorothrin. Product type: Insecticide. Proposed uses: Non-food residential indoor/outdoor uses. (RD)

2. EPA File Symbols: 6704-OG and 6704-OU. Docket ID Number: EPA-HQ- OPP-2013-0538. Applicant: U.S. Fish and Wildlife Service, Arlington Square Building, MS 725, Washington, DC 20240. Active ingredient: Male sea lamprey pheromone (3-ketopetromyzonol-24-sulfate). Product type: Biochemical pheromone. Proposed uses: Mating disruptor for sea lamprey control. (BPPD)

3. EPA File Symbol: 71975-G. Docket ID Number: EPA-HQ-OPP-2013-0570. Applicant: Matthew Brooks, Ph.D. of Ag-Chem Consulting, 12208 Quinque Lane, Clifton, VA 20124 on behalf of Northwest Agricultural Products, 821 South Chestnut Ave., Pasco, WA 99301. Active ingredient: Pseudomonas fluorescens strain D7. Product type: Herbicide. Proposed use: Manufacturing use. (BPPD)

4. EPA File Symbol: 71975-U. Docket ID Number: EPA-HQ-OPP-2013-0570. Applicant: Matthew Brooks, Ph.D. of Ag-Chem Consulting, 12208 Quinque Lane, Clifton, VA 20124 on behalf of Northwest Agricultural Products, 821 South Chestnut Ave., Pasco, WA 99301. Active ingredient: Pseudomonas fluorescens strain D7. Product type: Herbicide. Proposed uses: For suppression of downy brome, medusahead, Japanese brome and jointed goatgrass on cropland, rangeland, turf and non-crop areas. (BPPD)

5. EPA File Symbol: 74655-GU. Docket ID Number: EPA-HQ-OPP-2013-0627. Applicant: Hercules, Inc., a Wholly Owned Subsidiary of Ashland, Inc., 5500 Blazer Parkway, Dublin, OH 43017. Active ingredient: Ammonium Carbamate. Product type: Antimicrobial. Proposed uses: Paper mill process water and re-circulating cooling water systems. (AD)

6. EPA File Symbol: 84542-O. Docket ID Number: EPA-HQ-OPP-2013-0433. Applicant: Cupron Technologies, P.O. Box 85073, Richmond, VA 23285. Active ingredient: Cuprous iodide. Product type: Bacteristat, fungistat. Proposed uses: Indoor non-food use on fibers, carpet, films, plastics, coatings, laminates, adhesives and sealants. (AD)

7. EPA File Symbol: 89615-R. Docket ID Number: EPA-HQ-OPP-2013-0575. Applicant: Amy Plato Roberts of Technology Science Group, Inc., 712 Fifth St., Suite A, Davis, CA 95616 on behalf of IAB, S.L. (Investigaciones y Aplicaciones Biotechnologicas S.L.), Avda, Paret del Patriarca 11-B, Ap. 30, 46113 Moncada (Valencia) Spain. Active ingredient: Bacillus subtilis strain IAB/BS03. Product type: Fungicide. Proposed use: Manufacturing use. (BPPD)

8. EPA File Symbols: 89615-E, 89615-G, 89615-L, and 89615-U. Docket ID Number: EPA-HQ-OPP-2013-0575. Applicant: Amy Plato Roberts of Technology Science Group, Inc., 712 Fifth St., Suite A, Davis, CA 95616 on behalf of IAB, S.L. (Investigaciones y Aplicaciones Biotechnologicas S.L.), Avda, Paret del Patriarca 11-B, Ap. 30, 46113 Moncada (Valencia) Spain. Active ingredient: Bacillus subtilis strain IAB/BS03. Product type: Fungicide. Proposed uses: Greenhouse, field use, and home and garden use on various fruits and vegetables, cotton, hops, tobacco, fruit and nut trees, turf, and ornamentals. (BPPD)

List of Subjects

Environmental protection, Pesticides and pests.

Dated: September 30, 2013.
Lois Rossi,
Director, Registration Division, Office of Pesticide Programs.

[FR Doc. 2013-25596 Filed 10-29-13; 8:45 am]

BILLING CODE 6560-50-P